DEPARTMENT OF AGRICULTURE

Forest Service

Information Collection; Request for Comments; Senior Community Service Employment Program

AGENCY: Forest Service, USDA.

ACTION: Notice.

SUMMARY: In accordance with the Paperwork Reduction Act of 1995, the Forest Service announces its intention to reinstate a previously approved information collection. The collected information will help the agency determine the eligibility of applicants who are 55 or older and who apply for employment with the Forest Service through the Senior Community Service Employment Program. Information will be collected from prospective applicants and/or enrollees 55 years of age or older.

DATES: Comments must be received in writing on or before April 17, 2000.

ADDRESSES: All comments should be addressed to Director, Senior, Youth, and Volunteer Programs Staff, (Mail Stop 1136), Forest Service, USDA, P.O. Box 96090, Washington, D.C. 20090-6090.

Comments also may be submitted via facsimile to (703) 605-5115 or by e-mail to: syvp/wo@fs.fed.us.

The public may inspect comments received at the Office of the Director, Senior, Youth, and Volunteer Programs Staff, Forest Service, USDA, Room 1010, 1621 North Kent Street, Arlington, Virginia. Visitors are asked to call ahead to facilitate entrance into the office.

FOR FURTHER INFORMATION CONTACT: Priscella McCray, Senior, Youth, and Volunteer Programs Staff, at (703) 605-4853.

SUPPLEMENTARY INFORMATION:

Background

The Older Americans Act of 1965 (42 U.S.C. 3056 et seq.) authorizes the Forest Service to provide part-time employment opportunities and training to low-income and disadvantaged persons 55 years of age or older through the Senior Community Service Employment Program. Upon request, a Forest Service employee will provide the Application for the Senior Community Service Employment Program to potential applicants.

The application is divided into five sections. The first two sections will be completed by the prospective applicant or enrollee and will provide the information the agency will use to determine the applicant's eligibility to participate in the Program. The last three sections of the application will be completed by an authorized Forest Service employee and will provide information for a quarterly progress report the agency must provide to the Department of Labor. The description of the information collection will focus on the first two sections of the Application.

Description of Information Collection

The following describes the information collection to be reinstated:

Title: Application for the Senior Community Service Employment Program.

OMB Number: 0596-0099.

Expiration Date of Approval: August 31, 1994.

Type of Request: Reinstatement of an information collection previously approved by the Office of Management and Budget.

Abstract: An authorized Forest Service employee will evaluate the data to determine the eligibility of applicants to participate in the Senior Community Service Employment Program. The Program is designed to provide part-time employment opportunities and training to low-income and disadvantaged persons who meet the criteria for eligibility.

The Application for the Senior Community Service Employment Program is divided into five sections. Applicants must complete Sections I and II.

In Section I of the Application, individuals will provide information that includes the type of enrollment (first-time enrollment, re-certification for present enrollment, or re-enrollment), their name, date of birth, social security number, home address, and home telephone number.

In Section II, individuals will provide information that includes the name of their head of household, the number of people in their family, whether the family is receiving public assistance, their family income, their employment status, the date of their last physical examination, and if they have previously enrolled in this or other Senior Community Service Employment Programs.

Data gathered in this information collection are not available from other sources.

Estimate of Annual Burden: 10 minutes.

Type of Respondents: Economically disadvantaged individuals, including legal aliens, age 55 or older.

Estimated Annual Number of Respondents: 6,500.

Estimated Annual Number of Responses per Respondent: 1.

Estimated Total Annual Burden on Respondents: 1,083 hours.

Comment is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget approval.

Dated: February 10, 2000.
Ronald E. Hooper,
Acting Deputy Chief for Business Operations.

[FR Doc. 00-3593 Filed 2-15-00; 8:45 am]

BILLING CODE 3410-11-P